DEPARTMENT OF HEALTH AND HUMAN SERVICES

Centers for Medicare & Medicaid Services

42 CFR Part 416

[CMS-1478-CN]

RIN 0938-AN23

Medicare Program; Update of Ambulatory Surgical Center List of Covered Procedures; Correction

AGENCY: Centers for Medicare & Medicaid Services (CMS), HHS.

ACTION: Correction of interim final rule with comment period.

SUMMARY: This document corrects technical errors that appeared in the interim final rule with comment period published in the Federal Register on May 4, 2005 entitled “Medicare Program; Update of Ambulatory Surgical Center List of Covered Procedures.”

DATES: Effective July 1, 2005.

FOR FURTHER INFORMATION CONTACT: Dana Burley, (410) 786-0378.

SUPPLEMENTARY INFORMATION:

I. Background

In FR Doc. 05-8875 of May 4, 2005 (70 FR 23690), there were several technical errors that are identified and corrected in the Correction of Errors section below. The provisions in this correction notice are effective as if they had been included in the document published May 4, 2005. Accordingly, the corrections are effective July 1, 2005.

II. Correction of Errors

In FR Doc. 05-8875 of May 4, 2005 (70 FR 23690), make the following corrections:

On page 23690, in the first column, in the “Effective Date” section, the effective date of July 5, 2005 is an error. Remove “July 5, 2005” and add in its place “July 1, 2005.”

On page 23710, in section IV, Waiver of Proposed Rulemaking, in column 2, in lines 1 and 8, remove “July 5, 2005” and add in its place “July 1, 2005.”

On page 23752, there are three CPT codes erroneously included in the list of ASC covered procedures. These CPT codes are not on the ASC list because they were discontinued for 2005. Therefore on page 23752, remove CPT codes 50559, Renal endoscopy/radiotracer, 50959, Ureter endoscopy and tracer, and 50978, Ureter endoscopy and tracer.

The final error is one of omission. One public comment and the response were not included in the May 4, 2005 interim final rule. That comment and response are as follows:

Comment: We received one comment requesting that we add CPT code 55873, Cryosurgical ablation of the prostate, to the ASC list. The commenter also asked that we assign the procedure to a newly created payment group with a higher rate than current payment group 9. The commenter believes that the procedure meets the criteria for inclusion on the ASC list and that adding it to the list will permit reasonable site-of-service flexibility for physicians.

Response: We agree with the commenter that the procedure meets the criteria for inclusion on the ASC list. Utilization data show that the service is performed most of the time in the hospital outpatient setting and our medical staff agreed that it is appropriate for the ASC setting. We cannot however, create a new, higher payment level for this procedure because we do not have data upon which to base new payment rates and because the Congress has relieved us of performing a new survey and has, instead, mandated development of a new payment system. Therefore, we assigned the procedure to Group 9, the highest paying of the existing payment groups under which payments for ASC facility services are currently made.

III. Waiver of Proposed Rulemaking

We ordinarily publish a notice of proposed rulemaking in the Federal Register to provide a period for public comment before the provisions of a notice take effect. We can waive this procedure, however, if we find good cause that notice and comment procedure is impracticable, unnecessary, or contrary to the public interest and incorporate a statement of the finding and the reasons for it into the notice issued.

We find it unnecessary to undertake notice and comment rulemaking because this notice merely provides technical corrections to the regulations. Therefore, we find good cause to waive notice and comment procedures.

(Catalog of Federal Domestic Assistance Program No. 93.774, Medicare—Supplementary Medical Insurance Program)

Dated: June 20, 2005.
Ann C. Agnew,
Executive Secretary to the Department.

[FR Doc. 05-12522 Filed 6-23-05; 8:45 am]

BILLING CODE 4120-01-P